DEPARTMENT OF COMMERCE

International Trade Administration

[A-201-822]

Stainless Steel Sheet & Strip in Coils from Mexico; Extension of Time Limits for Preliminary and Final Results of Full (“Sunset”) Review of Antidumping Duty Order

AGENCY: Import Administration, International Trade Administration, Department of Commerce.

ACTION: Notice of Extension of Time Limit for the Preliminary and Final Results of Full (“Sunset”) Review of Antidumping Duty Order: Stainless Steel Sheet & Strip in Coils from Mexico.

SUMMARY: The Department of Commerce (“the Department”) is extending the time limit for its preliminary and final results in the full sunset review of the antidumping duty order on stainless steel sheet & strip in coils (“SSSS”) from Mexico. The Department intends to issue preliminary results of this sunset review on or about November 4, 2004. In addition, the Department intends to issue its final results of this review on or about February 28, 2005 (120 days after the date of publication in the Federal Register of the preliminary results).

EFFECTIVE DATE: September 27, 2004.

FOR FURTHER INFORMATION CONTACT: Martha V. Douthit., Import Administration, International Trade Administration, U.S. Department of Commerce, 14th Street & Constitution Avenue, NW., Washington, DC 20230; telephone: (202) 482-5050.

Extension of Preliminary and Final Results of Review:

On June 1, 2004, the Department initiated a sunset review of the antidumping duty order on SSSS from Mexico. See Initiation of Five-Year (Sunset) Reviews, 69 FR 30874 (June 1, 2004). The Department, in this proceeding, determined that it would conduct a full (240 day) sunset review of this order based on responses to the notice of initiation from domestic and respondent interested parties. The Department's preliminary results of this review were scheduled for September 20, 2004. The Department, however, needs additional time to consider issues related to the appropriate margin(s) of dumping likely to prevail if the order is revoked to provide to the International Trade Commission. Thus, the Department intends to issue the preliminary results on or about November 4, 2004 and the final results on or about February 28, 2005 in accordance with sections 751(c)(5)(B) and 751(c)(5)(C)(ii) of the Act.

Dated: September 20, 2004.
Jeffrey A. May,
Acting Assistant Secretary for Import Administration.

[FR Doc. E4-2390 Filed 9-24-04; 8:45 am]

BILLING CODE 3510-DS-P